DEPARTMENT OF THE INTERIOR

Bureau of Indian Affairs

Final Environmental Impact Statement for the Mandan, Hidatsa, Arikara (MHA) Nation's Proposed Clean Fuels Refinery, Fort Berthold Indian Reservation, Ward County, ND

AGENCY: Bureau of Indian Affairs, Interior.

ACTION: Extension of comment period.

SUMMARY: On August 28, 2009, the Bureau of Indian Affairs (BIA) and the U.S. Environmental Protection Agency (EPA) as co-lead agencies; and the Mandan, Hidatsa and Arikara (MHA) Nation and the U.S. Army Corps of Engineers as cooperating agencies, published a Notice of Availability for a Final Environmental Impact Statement (FEIS) for the proposed Clean Fuels Refinery (74 FR 44380). This notice announces an extension of the public comment period until October 28, 2009.

DATES: Public comments on the FEIS must arrive on or before October 28, 2009.

ADDRESSES: You may mail or hand carry written comments to Mike Black, Regional Director, Bureau of Indian Affairs, Great Plains Regional Office, 115 4th Avenue, SE., Aberdeen, SD.

FOR FURTHER INFORMATION CONTACT: Mike Black, BIA, 605-226-7343, or Steve Wharton, EPA, 303-312-6935 or 800-227-8917.

SUPPLEMENTARY INFORMATION: The Three Affiliated Tribes (MHA Nation) has requested that BIA accept into trust status 469 acres for the MHA Nation to construct, own, operate, and maintain a petroleum refinery on 190 acres of the 469-acre parcel. The remaining acres would be used to grow forage for buffalo. The land in the northeast corner of the Fort Berthold Indian Reservation is located along Highway 23, four miles west of the town of Makoti in Ward County, North Dakota.

The MHA Nation has also applied to EPA for a National Pollutant Discharge Elimination System (NPDES) permit under the Clean Water Act for discharges from the proposed refinery.

Feedstock for the proposed refinery would include 10,000 barrels per stream day (BPSD) of synthetic crude oil via existing pipeline from Alberta, Canada; 3,000 BPSD of field butane from local suppliers; 6 million standard cubic feet per day of natural gas via existing pipeline; and 300 barrels of bio-diesel or 8,500 bushels per day of soybeans. From the feedstock, the refinery would produce about 5,750 BPSD of diesel fuel, 6,770 BPSD of gasoline, and 300 BPSD of propane.

The FEIS analyzes potential environmental effects of two Federal agency decisions: (1) Whether BIA should accept lands into trust in support of the MHA Nation's proposal to construct and operate a clean fuels refinery and produce buffalo forage; and (2) whether EPA should issue a Clean Water Act NPDES permit for the process water discharges associated with the operation of the proposed refinery. The FEIS has identified the Agencies' preferred alternatives. BIA and EPA will be making their decisions in separate Records of Decision (RODs), which will be issued after the 30-day wait period on the FEIS. The MHA Nation will be deciding whether to build and operate the refinery.

BIA has identified its preferred alternative as Alternative 3. In this alternative, BIA would not place the land into trust status and the refinery could be constructed by the Tribes. If the proposed refinery is constructed, EPA has identified Alternative A, issuance of an NPDES permit for effluent discharges associated with the refinery as its preferred water discharge alternative. EPA and BIA recommend that the design of the refinery, if constructed, be modified consistent with Alternative 4.

Public Availability of the FEIS

The FEIS is available on the Web at: http://www.epa.gov/region8/compliance/nepa.

Hard copies of the document are available for review for public review at the following locations:

—Bureau of Indian Affairs, Great Plains Regional Office, 115 4th Avenue, SE., Aberdeen, SD.

—Bureau of Indian Affairs, Fort Berthold Agency, 202 Main Street, New Town, ND.

—EPA Region 8 Library, 1595 Wynkoop Street, Denver, CO.

—Three Affiliated Tribes Governmental Offices, 404 Frontage Road, New Town, ND

—Each of the MHA Nation's Segment Offices: Four Bears (Tribal Gov. Center), Mandaree, Shell Creek (New Town), Lucky Mound (Parshall), Twin Buttes, and White Shield, and

—Rensch garage in Makoti, ND.

Authority

This notice is published in accordance with section 1506.10 of the Council on Environmental Quality Regulations (40 CFR parts 1500 through 1508) implementing the procedural requirements of the National Environmental Policy Act of 1969, as amended (42 U.S.C. 4321 et seq.), and related Department of the Interior requirements in the Department of the Interior Manual (516 DM 1-6), and is in exercise of authority delegated to the Principal Deputy Assistant Secretary—Indian Affairs by 209 DM 8.

Dated: September 22, 2009.
Larry Echo Hawk,
Assistant Secretary—Indian Affairs.

[FR Doc. E9-23342 Filed 9-24-09; 8:45 am]

BILLING CODE 4310-W7-P